DEPARTMENT OF DEFENSE

Department of the Army

Board of Visitors, United States Military Academy (USMA)

AGENCY: Department of the Army, DoD.

ACTION: Meeting cancellation notice.

Under the provisions of the Federal Advisory Committee Act of 1972, the Government in the Sunshine Act of 1976 the Department of Defense announces that the following Federal advisory committee meeting will not take place.

1. Name of Committee: United States Military Academy Board of Visitors.

2. Date: Friday, November 19, 2021.

3. Time: 9:00-11:30 a.m.

4. Location: Jefferson Hall's Haig Room, West Point, NY, and virtually, via Microsoft Office 365 Teams.

5. Reason for Cancellation: Due to a change in the schedule of the U.S. House of Representatives for the week of November 14-20, 2021, all U.S. Representatives will be unavailable due to Congressional obligations. The USMA Board of Visitors meeting originally scheduled for Friday, November 19, 2021, is cancelled.

6. Committee's Designated Federal Officer or Point of Contact: Ms. Deadra Ghostlaw, (845) 938-4200, Deadra.Ghostlaw@westpoint.edu.

FOR FURTHER INFORMATION CONTACT: The Committee's Designated Federal Officer or Point of Contact is Ms. Deadra Ghostlaw, (845) 938-4200, Deadra.Ghostlaw@westpoint.edu.

SUPPLEMENTARY INFORMATION: Due to circumstances beyond the control of the DoD and the Designated Federal Officer for the United States Military Academy Board of Visitors was unable to provide public notification, as required by 41 CFR 102-3.150(a), of the cancellation of the United States Military Academy Board of Visitors' November 19, 2021 meeting, which was announced in the Federal Register on October 29, 2021. Accordingly, the DoD Advisory Committee Management Officer, pursuant to 41 CFR 102-3.150(b), waives the 15-calendar day notification requirement.”

James W. Satterwhite, Jr.,
Army Federal Register Liaison Officer.

[FR Doc. 2021-25723 Filed 11-24-21; 8:45 am]

BILLING CODE 5001-03-P